DEPARTMENT OF TRANSPORTATION

Surface Transportation Board

[Docket No. FD 35141]

U. S. Rail Corporation—Construction and Operation Exemption—Brookhaven Rail Terminal

AGENCY: Surface Transportation Board.

ACTION: Notice of Board Action.

SUMMARY: Subject to environmental mitigation conditions, the Board is granting an exemption under 49 U.S.C. 10502 from the prior approval requirements of 49 U.S.C. 10901 for U. S. Rail Corporation (U. S. Rail) to construct and operate a line of railroad at a 28-acre site to be known as the Brookhaven Rail Terminal (BRT), in Brookhaven, Suffolk County, N.Y. According to U. S. Rail, the total length of the track to be constructed is about 18,000 feet. The purpose of the proposed construction is to enable U. S. Rail to serve the BRT as a common carrier and to deliver up to 500,000 tons of aggregate annually from sources in upstate New York to Sills Road Realty, LLC (Sills), the owner of the underlying property, and its affiliates and related companies on Long Island. The project is intended to reduce Sills' reliance on truck transport of aggregate through the New York City metropolitan region.

DATES: The exemption will be effective on September 20, 2010. Petitions to reconsider must be filed on September 20, 2010.

ADDRESSES: An original and 10 copies of all pleadings, referring to FD 35141, must be filed with the Surface Transportation Board, 395 E Street, SW., Washington, DC 20423-0001. In addition, one copy of all pleadings must be served on petitioner's representative: James Savage, John D. Heffner, PLLC, 1750 K Street, NW., Suite 200, Washington, DC 20006.

FOR FURTHER INFORMATION CONTACT: Joseph Dettmar, (202) 245-0395. Assistance for the hearing impaired is available through the Federal Information Relay Service (FIRS) at: (800) 877-8339.

SUPPLEMENTARY INFORMATION: Additional information is contained in the Board's decision. Board decisions and notices are available on our Web site at http://www.stb.dot.gov.

Decided: September 8, 2010.
By the Board, Chairman Elliott, Vice Chairman Mulvey, and Commissioner Nottingham.
Jeffrey Herzig,
Clearance Clerk.

[FR Doc. 2010-22756 Filed 9-10-10; 8:45 am]

BILLING CODE 4915-01-P